DEPARTMENT OF THE INTERIOR

National Park Service

[NPS-WASO-NAGPRA-NPS0036435; PPWOCRADN0-PCU00RP14.R50000]

Notice of Intent To Repatriate Cultural Items: San Francisco State University Native American Graves Protection and Repatriation Act Program, San Francisco, CA

AGENCY: National Park Service, Interior.

ACTION: Notice.

SUMMARY: In accordance with the Native American Graves Protection and Repatriation Act (NAGPRA), the San Francisco State University NAGPRA Program intends to repatriate certain cultural items that meet the definition of unassociated funerary objects and objects of cultural patrimony and that have a cultural affiliation with the Indian Tribes or Native Hawaiian organizations in this notice. The cultural items were removed from Humboldt County, CA.

DATES: Repatriation of the cultural items in this notice may occur on or after September 22, 2023.

ADDRESSES: Zay D. Latt, San Francisco State NAGPRA Program, 1600 Holloway Avenue, San Francisco, CA 94132, telephone (415) 405-3545, email zlatt@sfsu.edu.

SUPPLEMENTARY INFORMATION: This notice is published as part of the National Park Service's administrative responsibilities under NAGPRA. The determinations in this notice are the sole responsibility of the San Francisco State NAGPRA Program. The National Park Service is not responsible for the determinations in this notice. Additional information on the determinations in this notice, including the results of consultation, can be found in the summary or related records held by the San Francisco State NAGPRA Program.

Description

Eight objects of cultural patrimony were donated to the Tregenza Museum at San Francisco State University in the 1960s and 1970s. When the Treganza Anthropology Museum closed in 2012, all the Native American items were transferred to the San Francisco State University NAGPRA Program. The objects of cultural patrimony are eight Wiyot baskets from the Northwest California Coast. They consist of two round bowl baskets and one twined eating bowl donated by Elsa Korbel in 1968; one twined gift basket, one twin with knob lid, one twined open gift basket, and one twined cooking bowl donated by M. Molarsky; and one twined gift basket donated by the San Mateo Historical Society.

In 1966, 45 unassociated funerary objects were removed by Robert Ostrovsky and Robert Schenk from sites CA-HUM-207, CA-HUM-208, CA-HUM-211, CA-HUM-213, CA-HUM-214, CA-HUM-215, CA-HUM-216, and CA-HUM-Butler Valley as part of archeological site documentation in an area along Butler Valley Reservoir, in Humboldt County, CA. These cultural items were stored in the San Francisco State College Anthropology Collection and subsequently became part of the archeological collection of the Treganza Anthropology Museum at San Francisco State University (TAM). Upon closure of TAM in 2012, the objects were transferred to the San Francisco State University NAGPRA program. The 45 unassociated funerary objects are one spatulate hammer stone, one possible metate fragment, two shell fragments, and three worked chert pieces from CA-HUM-207; one stone mano from CA-HUM-208; one hopper mortar pestle from CA-HUM-211; one small hammer stone, one hopper mortar, and one small milling stone from CA-HUM-213; one small round stone, nine chert pieces, one possible bowl mortar fragment, one small hammer stone, one small mano, and one mano-hammer stone from CA-HUM-214; three soapstone pieces, one grey chert scraper, and 11 chert scrapers from CA-HUM-215; one worked red chert and one red chert scrapper from CA-HUM-216; and two groundstones from CA-Hum-Butler Valley.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, historical, and other relevant information or expert opinion.

Determinations

Pursuant to NAGPRA and its implementing regulations, and after consultation with the appropriate Indian Tribes and Native Hawaiian organizations, the San Francisco State NAGPRA Program has determined that:

• The 45 cultural items described above are reasonably believed to have been placed with or near individual human remains at the time of death or later as part of the death rite or ceremony and are believed, by a preponderance of the evidence, to have been removed from a specific burial site of a Native American individual.

• The eight cultural items described above have ongoing historical, traditional, or cultural importance central to the Native American group or culture itself, rather than property owned by an individual.

• There is a relationship of shared group identity that can be reasonably traced between the cultural items and the Bear River Band of the Rohnerville Rancheria, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2023. If competing requests for repatriation are received, the San Francisco State NAGPRA Program must determine the most appropriate requestor prior to repatriation. Requests for joint repatriation of cultural items are considered a single request and not competing requests. The San Francisco State NAGPRA Program is responsible for sending a copy of this notice to the Indian Tribe identified in this notice.

Authority: Native American Graves Protection and Repatriation Act, 25 U.S.C. 3003, and the implementing regulations, 43 CFR 10.8, 10.10, and 10.14.

Dated: August 16, 2023.
Melanie O'Brien,
Manager, National NAGPRA Program.

[FR Doc. 2023-18134 Filed 8-22-23; 8:45 am]

BILLING CODE 4312-52-P